DEPARTMENT OF THE INTERIOR

National Park Service

National Capital Memorial Advisory Commission

AGENCY: Department of the Interior, National Park Service, National Capital Memorial Advisory Commission.

ACTION: Notice of meeting.

SUMMARY: Notice is hereby given that a meeting of the National Capital Memorial Advisory Commission (the Commission) will be held on Monday, September 13, 2004, at 1:30 p.m., at the National Building Museum, Room 312, 401 F Street, NW., Washington, DC.

The purpose of the meeting will be to discuss currently authorized and proposed memorials in the District of Columbia and its environs. In addition to discussing general matters and conducting routine business, the Commission will review the status of legislative proposals introduced in the 108th Congress to establish memorials in the District of Columbia and its environs, as follows:

Action Items:

(1) Site Selection Study, Vietnam Veterans Memorial Education Center.

(2) Preliminary Design Concept, Memorial to Victims of Communism.

(3) Legislation currently under consideration by the 108th Congress.

Information Items:

(1) Congressional actions taken on bills previously reviewed by the Commission.

Other Business:

(1) General matters and routine business.

The meeting will be open to the public. Any person may file with the Commission a written statement concerning the matters to be discussed. Persons who wish to file a written statement or testify at the meeting or who want further information concerning the meeting may contact Ms. Nancy Young, Secretary to the Commission, at (202) 619-7097.

DATES: September 13, 2004, at 1:30 p.m.

ADDRESSES: National Building Museum, Room 312, 401 F Street, NW., Washington, DC 20001.

FOR FURTHER INFORMATION CONTACT: Ms. Nancy Young, Secretary to the Commission, 202-619-7097.

SUPPLEMENTARY INFORMATION: The Commission was established by Public Law 99-652, the Commemorative Works Act (40 U.S.C. Chapter 89 et seq.), to advise the Secretary of the Interior (the Secretary) and the Administrator, General Services Administration (the Administrator), on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service.

Chairman, National Capital Planning Commission.

Architect of the Capitol.

Chairman, American Battle Monuments Commission.

Chairman, Commission of Fine Arts.

Mayor of the District of Columbia.

Administrator, General Services Administration.

Dated: July 22, 2004.
Joseph M. Lawler,
Acting Regional Director, National Capital Region

[FR Doc. 04-19085 Filed 8-19-04; 8:45 am]

BILLING CODE 4312-JK-M